DEPARTMENT OF AGRICULTURE

Agricultural Marketing Service

[Document Number AMS-NOP-11-0014; NOP-11-05]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Tuesday, April 26, 2011, 8 a.m. to 5:30 p.m.; Wednesday, April 27, 2011, 8 a.m. to 5 p.m.; Thursday, April 28, 2011, 8 a.m. to 5 p.m.; and Friday, April 29, 2011, 8 a.m. to 4:45 p.m. Pre-registration requests for public comments at the meeting are due by midnight Eastern Time on Sunday, April 10, 2011. Written comments received after April 10, 2011 may not be reviewed by the NOSB before the meeting.

ADDRESSES: The meeting will take place at the Red Lion Hotel on Fifth Avenue, 1415 5th Avenue, Seattle, WA 98101.

• View NOSB meeting agenda and draft recommendations at http://www.ams.usda.gov/nop. Requests for copies of these materials may be sent to Ms. Katherine Benham or Patricia Atkins, National Organic Standards Board, USDA-AMS-NOP, 1400 Independence Ave., SW., Room 2646-So., Ag Stop 0268, Washington, DC 20250-0268; Phone: (202) 720-3252; nosb@ams.usda.gov.

• Submit written comments at http://www.ams.usda.gov/nosbseattle. Comments received after April 10, 2011 may not be reviewed by the NOSB before the meeting. Written comments may also be submitted via mail to Ms. Patricia Atkins, National Organic Standards Board, USDA-AMS-NOP, 1400 Independence Ave., SW., Room 2646-So., Ag Stop 0268, Washington, DC 20250-0268. It is our intention to have all comments—whether they are submitted by mail or the Internet—available for viewing at http://www.ams.usda.gov/nosbseattle.

• Pre-register for a five-minute public comment slot at the meeting at http://www.ams.usda.gov/nosbseattleslots or by calling (202) 720-3252.

FOR FURTHER INFORMATION CONTACT: Ms. Katherine Benham or Patricia Atkins, National Organic Standards Board, USDA-AMS-NOP, 1400 Independence Ave., SW., Room 2646-So., Ag Stop 0268, Washington, DC 20250-0268; Phone: (202) 720-3252; nosb@ams.usda.gov.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six subcommittees working on various aspects of the organic program. The committees are: Compliance, Accreditation, and Certification; Crops; Handling; Livestock; Materials; and Policy Development.

In August of 1994, the NOSB provided its initial recommendations for the NOP to the Secretary of Agriculture. Since that time, the NOSB has submitted 239 addenda to its recommendations and reviewed more than 361 substances for inclusion on the National List of Allowed and Prohibited Substances. The Department of Agriculture (USDA) published its final National Organic Program regulation in the Federal Register on December 21, 2000, (65 FR 80548). The rule became effective April 21, 2001.

In addition, the OFPA authorizes the National List of Allowed and Prohibited Substances and provides that no allowed or prohibited substance would remain on the National List for a period exceeding five years unless the exemption or prohibition is reviewed and recommended for renewal by the NOSB and adopted by the Secretary of Agriculture. This expiration is commonly referred to as sunset of the National List. The National List appears at 7 CFR part 205, subpart G.

The principal purpose of NOSB meetings is to provide an opportunity for the organic community to weigh in on proposed NOSB recommendations and discussion items. These meetings also allow the NOSB to receive updates from the USDA/NOP on issues pertaining to organic agriculture.

Summary of October 2010 Meeting

At the fall 2010 meeting in Madison, Wisconsin, the NOSB voted to renew 56 materials listings that were scheduled to sunset in 2012 (see Table 1). A combined 28 substances were deferred by the Crops and Handling Committees until the Spring 2011 NOSB meeting in Seattle, Washington.

Table 1—Sunset 2012 Material Listings Voted To Be Relisted at October 2010 Meeting
Section | Material | Expiration date
§ 205.601 Synthetic substances allowed for use in organic crop production | EPA List 4-Inerts of Minimal Concern | October 21, 2012.
§ 205.602 Nonsynthetic substances prohibited for use in organic crop production | None |
§ 205.603 Synthetic substances allowed for use in organic livestock production | Ethanol Isopropanol Aspirin Calcium hypochlorite Chlorine dioxide | October 21, 2012. October 21, 2012. October 21, 2012. October 21, 2012. October 21, 2012.
| Sodium hypochlorite Furosemide Glucose Glycerine Magnesium sulfate Copper sulfate EPA List 4-Inerts of Minimal Concern | October 21, 2012. December 13, 2012. October 21, 2012. October 21, 2012. October 21, 2012. October 21, 2012. October 21, 2012.
§ 205.604 Nonsynthetic substances prohibited for use in organic livestock production | None |
§ 205.605(a) Nonsynthetic substances allowed as ingredients in or on processed products labeled as “organic” or “made with organic | Flavors Magnesium sulfate Yeast autolysate Bakers yeast Brewers yeast Nutritional yeast Smoked yeast | October 21, 2012. October 21, 2012. October 21, 2012. October 21, 2012. October 21, 2012. October 21, 2012. October 21, 2012.
§ 205.605(b) Synthetic substances allowed as ingredients in or on processed products labeled as “organic” or “made with organic.” | Calcium hypochlorite Chlorine dioxide Sodium hypochlorite Ferrous sulfate Pectin (low-methoxy) Phosphoric acid Silicon dioxide | October 21, 2012. October 21, 2012. October 21, 2012. October 21, 2012. October 21, 2012. October 21, 2012. October 21, 2012.
| Sodium citrate Sodium hydroxide Sodium phosphates Sulfur dioxide | October 21, 2012. October 21, 2012. October 21, 2012. October 21, 2012.
§ 205.606 Nonorganically produced agricultural products allowed as ingredients in or on processed products labeled as “organic.” | Annatto extract color (pigment CAS # 1393-63-1)—water and oil soluble | June 27, 2012.
| Beet juice extract color (pigment CAS # 7659-95-2) | June 27, 2012.
| Beta-carotene extract color from carrots (CAS # 1393-63-1) | June 27, 2012.
| Black currant juice color (pigment CAS #'s: 528-58-5, 528-53-0, 643-84-5, 134-01-0, 1429-30-7, and 134-04-3) | June 27, 2012.
| Black/purple carrot juice color (pigment CAS #'s: 528-58-5, 528-53-0, 643-84-5, 134-01-0, 1429-30-7, and 134-04-3) | June 27, 2012.
| Blueberry juice color (pigment CAS #'s: 528-58-5, 528-53-0, 643-84-5, 134-01-0, 1429-30-7, and 134-04-3) | June 27, 2012.
| Carrot juice color (pigment CAS # 1393-63-1) | June 27, 2012.
| Cherry juice color (pigment CAS #'s: 528-58-5, 528-53-0, 643-84-5, 134-01-0, 1429-30-7, and 134-04-3) | June 27, 2012.
| Chokeberry—Aronia juice color (pigment CAS #'s: 528-58-5, 528-53-0, 643-84-5, 134-01-0, 1429-30-7, and 134-04-3) | June 27, 2012.
| Elderberry juice color (pigment CAS #'s: 528-58-5, 528-53-0, 643-84-5, 134-01-0, 1429-30-7, and 134-04-3) | June 27, 2012.
| Grape juice color (pigment CAS #'s: 528-58-5, 528-53-0, 643-84-5, 134-01-0, 1429-30-7, and 134-04-3) | June 27, 2012.
| Grape skin extract color (pigment CAS #'s: 528-58-5, 528-53-0, 643-84-5, 134-01-0, 1429-30-7, and 134-04-3) | June 27, 2012.
| Paprika color—dried powder and vegetable oil extract (CAS # 68917-78-2) | June 27, 2012.
| Pumpkin juice color (pigment CAS # 127-40-2) | June 27, 2012.
| Purple potato juice color (pigment CAS #'s: 528-58-5, 528-53-0, 643-84-5, 134-01-0, 1429-30-7, and 134-04-3), | June 27, 2012.
| Red cabbage extract color (pigment CAS #'s: 528-58-5, 528-53-0, 643-84-5, 134-01-0, 1429-30-7, and 134-04-3) | June 27, 2012.
| Red radish extract color (pigment CAS #'s 528-58-5, 528-53-0, 643-84-5, 134-01-0, 1429-30-7, and 134-04-3) | June 27, 2012.
| Saffron extract color (pigment CAS # 1393-63-1) | June 27, 2012.
| Turmeric extract color (CAS # 458-37-7) | June 27, 2012.
| Fructo-oligosaccharides (CAS#308066-66-2) | June 27, 2012.
| Hops (humulus lupulus) | June 27, 2012.
| Inulin, oligofructose enriched (CAS # 9005-80-5) | June 27, 2012.
| Pectin (high-methoxy) | October 21, 2012.
| Cornstarch (native) | October 21, 2012.
| Whey protein | June 27, 2012.

The NOSB also voted against listing three materials petitioned for use in organic crop production: ethylene glycol, tall oils, and tetramethyl-decyne-diol. The NOSB voted to list formic acid on § 205.603 as a parasiticide for use in honeybee hives. Additionally, the board voted to reaffirm their prior Sunset 2012 recommendations from the April 2010 meeting.

In addition to their review of materials, the NOSB also passed multiple recommendations that would: define organic apiculture standards, clarify § 205.238(c)(2) to promote the humane treatment of animals during routine care, define engineered nanomaterials and prohibit their use in organic agriculture, and clarify § 205.101(b) to reduce mislabeling in the organic marketplace. The NOSB also voted to update their New Member Guide and three sections of their Policy and Procedures Manual: Section IV, establishing ad-hoc committees; Section V, outlining the scope of NOP/NOSB Collaboration; and Section VII, allowing annotation changes during Sunset Review under certain circumstances.

Spring 2011 Meeting Agenda Items

The Crops Committee will present recommendations on the remaining 22 material listings scheduled to sunset in 2012 (see Table 2). The Crops Committee will also present recommendations to the board on two petitioned materials: nickel and tetracycline. Other Crops Committee recommendations include a recommendation on the classification of corn steep liquor and a response to the National Organic Program's request on sodium nitrate.

Table 2—Crops Substances Scheduled To Sunset in 2012 and Be Addressed at Spring Meeting
Section | Material | Expiration date
§ 205.601 Synthetic substances allowed for use in organic crop production | Ethanol Isopropanol Newspapers or other recycled paper, without glossy or colored inks Plastic mulch and covers Newspapers or other recycled paper, without glossy or colored inks Pheromones Sulfur dioxide Vitamin D3 Streptomycin Lignin sulfonate Magnesium sulfate Ethylene gas Lignin sulfonate Sodium silicate Calcium hypochlorite Chlorine dioxide Sodium hypochlorite Copper hydroxide Copper oxide Copper oxychloride Copper sulfate | October 21, 2012. October 21, 2012. October 21, 2012. October 21, 2012. October 21, 2012. October 21, 2012. October 21, 2012. October 21, 2012. October 21, 2012. October 21, 2012. October 21, 2012. October 21, 2012. October 21, 2012. October 21, 2012. October 21, 2012. October 21, 2012. October 21, 2012. October 21, 2012. October 21, 2012. October 21, 2012. October 21, 2012.
§ 205.602 Nonsynthetic substances prohibited for use in organic crop production | Sodium nitrate | October 21, 2012.

The Livestock Committee will present two recommendations on animal welfare: Stocking rates and animal handling, transit, and slaughter. They will also have a discussion document on omnivorous diets for poultry.

The Handling Committee will present recommendations on the remaining six material listings scheduled to sunset in 2012 (see Table 3). The Handling Committee will also present recommendations to the board on four petitioned materials: attapulgite, calcium acid pyrophosphate, silicon dioxide, and sodium acid pyrophosphate. Other Handling Committee recommendations include a recommendation on nutrient vitamins and minerals and amending the chlorine materials annotation.

Table 3—Handling Substances Scheduled To Sunset in 2012 and Be Addressed at Spring Meeting
Section | Material | Expiration date
§ 205.605(a) Nonsynthetic substances allowed as ingredients in or on processed products labeled as “organic” or “made with organic.'' | Enzymes Potassium iodide | October 21, 2012. October 21, 2012.
§ 205.605(b) Synthetic substances allowed as ingredients in or on processed products labeled as “organic” or “made with organic.'' | Nutrient vitamins Nutrient minerals Potassium iodide Tocopherols | October 21, 2012. October 21, 2012. October 21, 2012. October 21, 2012.

The Materials Committee will present a guidance document on materials classification.

The Compliance, Accreditation, and Certification Committee will present a discussion document on the evaluation of material review organizations.

The Policy Development Committee will present recommendations on three sections of the NOSB Policy and Procedures Manual: Sections III & IV: Review of Vice Chair & Policy Development Committee Roles; Section IV: Clarification of Committee Purview; and Section V: NOSB Member and Leadership Transition.

The Meeting Is Open to the Public. The NOSB has scheduled time for public input for Tuesday, April 26, 2011, from 10 a.m. to 5:30 p.m. and Thursday, April 28, 2011 from 8 a.m. to 5 p.m. Individuals and organizations wishing to make oral presentations at the meeting are requested to reserve a slot electronically via http://www.ams.usda.gov/nosbseattleslots or by calling (202) 720-3252. Individuals or organizations will be given one five-minute slot to present their views. All persons making oral presentations are requested to provide their comments in writing and indicate the topic of their comment, referencing specific NOSB recommendations/topics or noting if they plan to cover multiple topics. Written submissions may contain information other than that presented at the oral presentation. Anyone may submit written comments at the meeting. Persons submitting written comments are asked to provide sixteen copies.

Interested persons may visit http://www.ams.usda.gov to view available meeting documents prior to the meeting and submit and/or view comments.

Dated: February 25, 2011.
David R. Shipman,
Associate Administrator, Agricultural Marketing Service.

[FR Doc. 2011-4809 Filed 3-3-11; 8:45 am]

BILLING CODE 3410-02-P